DEPARTMENT OF TRANSPORTATION

Federal Highway Administration

Notice of Final Federal Agency Actions on Proposed Roadway in Utah

AGENCY: Federal Highway Administration (FHWA), Department of Transportation.

ACTION: Notice of Limitation on Claims for Judicial Review of Actions by the Utah Department of Transportation (UDOT), pursuant to 23 U.S.C. 327, and other federal agencies.

SUMMARY: The FHWA, on behalf of UDOT, is issuing this notice to announce actions taken by UDOT that are final. The actions relate to the proposed Skyline Drive Roadway project in the County of Weber, State of Utah. Those actions grant licenses, permits and approvals for the project.

DATES: By this notice, the FHWA, on behalf of UDOT, is advising the public of final agency actions subject to 23 U.S.C. 139(l)(1). A claim seeking judicial review of the Federal agency actions on the highway project will be barred unless the claim is filed on or before November 6, 2017. If the Federal law that authorizes judicial review of a claim provides a time period of less than 150 days for filing such claim, then that shorter time period still applies.

FOR FURTHER INFORMATION CONTACT: For UDOT: Brandon Weston, Director of Environmental Services, UDOT Environmental Services, P.O. Box 148380, Salt Lake City, UT 84114; telephone: (801) 965-4603; email: brandonweston@utah.gov. UDOT's normal business hours are 8:00 a.m. to 5:00 p.m. (Mountain Standard Time), Monday through Friday, except State and Federal holidays.

SUPPLEMENTARY INFORMATION: The environmental review, consultation, and other actions required by applicable Federal environmental laws for this project are being or have been carried out by UDOT pursuant to 23 U.S.C. 327 and a Memorandum of Understanding dated January 17, 2017 and executed by FHWA and UDOT. Notice is hereby given that the UDOT has taken final agency actions subject to 23 U.S.C. 139(l)(1) by issuing licenses, permits, and approvals for the Skyline Drive Roadway project in the State of Utah. This project proposes to construct a new roadway from 4300 North and 1100 West to United States Route 89 (US-89) located in the City of Pleasant View, Weber County, Utah. The project consists of the following improvements: Construct a new approximately 1.5 mile commercial vehicle haul route from 4300 North and 1100 West to United States Route 89 (US-89); and Realign Pleasant View Drive from approximately 0.2 miles southeast of the US-89 and Pleasant View Drive intersection to connect with the alignment approximately 0.1 miles northeast of the alignment's connection with US-89. These improvements were identified in the Final Environmental Assessment as Alternative L—Skyline Drive to Pleasant View Drive South. The actions by the Federal agencies, and the laws under which such actions were taken, are described in the Final Environmental Assessment (EA) for the project (Final Environmental Assessment, Skyline Drive Roadway in Pleasant View, Utah, Project #: F-LC57(18)), approved on May 31, 2017, in the UDOT Finding of No Significant Impact (FONSI) for the project (Utah Department of Transportation Finding of No Significant Impact for Skyline Drive Roadway in Pleasant View, Utah) issued on May 31, 2017, and in other documents in the UDOT project records. The Final EA, FONSI, and other project records are available by contacting UDOT at the address provided above. The UDOT Final EA and FONSI can be viewed and downloaded from the project Web site at http://www.skylinedriveproject.com/.

This notice applies to the EA and FONSI, the Section 4(f) Determination, the NHPA Section 106 Review, and all other Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671q].

3. Land: Section 4(f) of the Department of Transportation Act of 1966 [49 U.S.C. 303; 23 U.S.C. 138]; Landscaping and Scenic Enhancement (Wildflowers) [23 U.S.C. 319].

4. Wildlife: Endangered Species Act [16 U.S.C. 1531-1544 and Section 1536]; Fish and Wildlife Coordination Act [16 U.S.C. 661-667d]; Migratory Bird Treaty Act [16 U.S.C. 703-712].

5. Historic and Cultural Resources: Section 106 of the National Historic Preservation Act of 1966, as amended [16 U.S.C. 470f]; Archeological Resources Protection Act of 1977 [16 U.S.C. 470aa-470mm]; Archeological and Historic Preservation Act [16 U.S.C. 469-469c].

6. Noise: Federal-Aid Highway Act of 1970 [Pub. L. 91-605, 84 Stat. 1713].

7. Executive Orders: E.O. 11593 Protection and Enhancement of Cultural Resources; E.O. 13287 Preserve America.

(Catalog of Federal Domestic Assistance Program Number 20.205, Highway Planning and Construction. The regulations implementing Executive Order 12372 regarding intergovernmental consultation on Federal programs and activities apply to this program.)

Authority: 23 U.S.C. 139(l)(1)

Issued on: May 31, 2017.
Ivan Marrero,
Division Administrator, Federal Highway Administration, Salt Lake City, Utah.

[FR Doc. 2017-11630 Filed 6-7-17; 8:45 am]

BILLING CODE 4910-RY-P